NATIONAL TRANSPORTATION SAFETY BOARD

Sunshine Act Meeting

TIME AND PLACE: 9:30 a.m., Tuesday, July 24, 2001.

PLACE: NTSB Conference Center, 429 L'Enfant Plaza, SW., Washington, DC 20494.

STATUS: The first two items are open to the public and the last two items are closed under Exemption 10 of the Government in the Sunshine Act.

MATTERS TO BE CONSIDERED:

7377—Marine Accident Report—Fire On Board the Netherlands Registered Passenger Ship Nieuw Amsterdam at Glacier Bay, Alaska on May 23, 2000, the Related Safety Recommnedations (DCA-00-MM-027)

7159A—Railroad Accident Report—Derailment of Amtrak Train 21 on the Union Pacific Railroad at Arlington, Texas on December 20, 1998 (DCA-99-MR-001).

7336A—Opinion & Order: Administrator v. Shrader, Docket SE-15472; Disposition of Administrator's Appeal.

7367—Opinion & Order: Administrator v. Ramaprakash, Docket SE-15534; Disposition of Respondent's Appeal.

News Media Contact): Telephone: (202) 314-6100. Individuals requesting specific accommodation should contact Ms. Carolyn Dargan at (202) 314-6305 by Friday, July 20, 2001.

FOR FURTHER INFORMATION CONTACT: Vicky D'Onofrio, (202) 314-6410.

Dated: July 13, 2001.
Vicky D'Onofrio,
Federal Register Liaison Officer.

[FR Doc. 01-17956 Filed 7-13-01; 2:14 pm]

BILLING CODE 7533-01-M